DEPARTMENT OF THE INTERIOR

National Park Service

[NPS-WASO-NAGPRA-NPS0037155; PPWOCRADN0-PCU00RP14.R50000]

Notice of Inventory Completion: U.S. Department of the Interior, National Park Service, Buffalo National River, Harrison, AR

AGENCY: National Park Service, Interior.

ACTION: Notice.

SUMMARY: In accordance with the Native American Graves Protection and Repatriation Act (NAGPRA), U.S. Department of the Interior, National Park Service, Buffalo National River (BUFF) has completed an inventory of human remains and has determined that there is no cultural affiliation between the human remains and any Indian Tribe. The human remains were removed from Marion and Searcy Counties, AR.

DATES: Disposition of the human remains in this notice may occur on or after February 2, 2024.

ADDRESSES: Angela Boyers, Superintendent, Buffalo National River, 402 North Walnut, Suite 136, Harrison, AR 72601-1173, telephone (870) 365-2700, email BUFF_Superintendent@nps.gov.

SUPPLEMENTARY INFORMATION: This notice is published as part of the National Park Service's administrative responsibilities under NAGPRA. The determinations in this notice are the sole responsibility of the superintendent, BUFF. Additional information on the determinations in this notice, including the results of consultation, can be found in the inventory or related records held by BUFF.

Description

Human remains representing, at minimum, one individual were removed from Searcy County, AR. In August 1990, human remains of one individual were removed from site 3SE279 by National Park Service archeologists as part of an Archeological Resource Protection Act (ARPA) investigation. No associated funerary objects are present.

Human remains representing, at minimum, 10 individuals were removed from Marion County, AR. Between 1988 and 1990, human remains were recovered from site 3MR80. The human remains were recovered during two separate excavation projects led by the Sponsored Research Program of the Arkansas Archeological Survey under contract to the National Park Service. No associated funerary objects are present.

Aboriginal Land

The human remains in this notice were removed from known geographic locations. These locations are the aboriginal lands of one or more Indian Tribes. The following information was used to identify the aboriginal land: a treaty.

Determinations

Pursuant to NAGPRA and its implementing regulations, and after consultation with the appropriate Indian Tribes, BUFF has determined that:

• The human remains described in this notice represent the physical remains of 11 individuals of Native American ancestry.

• No relationship of shared group identity can be reasonably traced between the human remains and any Indian Tribe.

• The human remains described in this notice were removed from the aboriginal land of The Osage Nation.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after February 2, 2024. If competing requests for disposition are received, BUFF must determine the most appropriate requestor prior to disposition. Requests for joint disposition of the human remains are considered a single request and not competing requests. BUFF is responsible for sending a copy of this notice to the Indian Tribes identified in this notice.

Authority: Native American Graves Protection and Repatriation Act, 25 U.S.C. 3003, and the implementing regulations, 43 CFR 10.9 and 10.11.

Dated: December 20, 2023.
Melanie O'Brien,
Manager, National NAGPRA Program.

[FR Doc. 2023-28911 Filed 1-2-24; 8:45 am]

BILLING CODE 4312-52-P